DEPARTMENT OF JUSTICE

Notice of Lodging of Amended Consent Decree Under the Clean Air Act

In accordance with 28 CFR 50.7, notice is hereby given that on January 22, 2004, a proposed Consent Decree in United States v. Ace Ethanol, L.L.C. (“Ace Ethanol”) Civil Action No. 04 C 0034 S, was lodged with the United States District Court for the Western District of Wisconsin.

In a complaint filed simultaneously with the lodging of the proposed Consent Decree, the United States and the State of Wisconsin (“Plaintiffs”) asserted claims on behalf of the U.S. Environmental Protection Agency (“EPA”) and the Wisconsin Department of Natural Resources (“WDNR”) against the owners and operators of an ethanol mill in Stanley, Wisconsin, pursuant to section 113(b) of the Clean Air Act (“Act”), 42 U.S.C. § 7413(b). Plaintiffs sought injunctive relief and civil penalties for violations of the Prevention of Significant Deterioration (“PSD”) provisions of the Act and regulations promulgated thereunder; New Source Performance Standards (“NSPS”), 40 CFR part 60, subparts Db, Dc, Kb, and VV; National Emission Standards for Hazardous Air Pollutants (“NESHAP”), 40 CFR part 63; and the Wisconsin State implementation plan.

In the proposed Consent Decree, Ace Ethanol agrees, among other things, to install a regenerative thermal oxidizer to control volatile organic compound (“VOC”), particulate, and carbon monoxide emissions from its dryer; achieve at least 95 percent removal of VOCs; meet a stringent limit on nitrogen oxide (“NOX”) emissions from its gas boilers and a new, plant-wide cap on hazardous air pollutant emissions; implement programs to reduce emissions during loading and transport operations and to manage dust on roads at the facility; comply with various monitoring and record-keeping requirements; apply for a PSD permit from the WDNR; and pay a civil penalty of over $300,000 to the State.

The Department of Justice will receive comments relating to the proposed Consent Decree for a period of thirty (30) days from the date of this publication. Comments should be addressed to the Assistant Attorney General, Environment and Natural Resources Division, P.O. Box 7611, U.S. Department of Justice, Washington, DC 20044-7611, and should refer to: United States v. Ace Ethanol, L.L.C., D.J. Ref. 90-5-2-1-08176.

The proposed Consent Decree may be examined at the Office of the United States Attorney for the Western District of Wisconsin, Suite 303, City Station, 660 West Washington Avenue, Madison, Wisconsin 53703, and at U.S. EPA Region 5, 77 West Jackson Blvd., Chicago, IL 60604. During the public comment period the proposed Consent Decree may also be examined on the following Department of Justice Web site, http://www.usdoj.gov/enrd/open/html. A copy of the proposed Consent Decree, may also be obtained by mail from the Consent Decree Library, P.O. Box 7611, U.S. Department of Justice, Washington, DC. 20044-7611 or by faxing or e-mailing a request to Tonia Fleetwood (tonia.fleetwood@usdoj.gov), fax no. (202) 514-0097, phone confirmation number (202) 514-1547. In requesting a copy from the Consent Decree Library, please enclose a check in the amount of $10.50 (25 cents per page reproduction cost) payable to the U.S. Treasury.

William D. Brighton,
Assistant Chief, Environmental Enforcement Section, Environment and Natural Resources Division.

[FR Doc. 04-2315 Filed 2-4-04; 8:45 am]

BILLING CODE 4410-15-M